DEPARTMENT OF HOMELAND SECURITY

Transportation Security Administration

[Docket No. TSA-2007-28572]

Revision of Agency Information Collection Activity Under OMB Review: Secure Flight Program

AGENCY: Transportation Security Administration, DHS.

ACTION: 30-Day notice.

SUMMARY: This notice announces that the Transportation Security Administration (TSA) has forwarded the Information Collection Request (ICR), Office of Management and Budget (OMB) control number 1652-0046, abstracted below, to OMB for review and approval of a revision of the currently approved collection under the Paperwork Reduction Act (PRA). This ICR describes the nature of the information collection and its expected burden. The information collection involves passenger information that certain United States aircraft operators and foreign air carriers (collectively referred to in this document as “covered aircraft operators”) submit to Secure Flight for the purposes of identifying and protecting against potential and actual threats to transportation security. To carry out this purpose, the information collection involves watch lists used by TSA to determine the prescreening status of individuals based on Secure Flight Passenger Data (SFPD) submitted by covered aircraft operators. TSA is revising this collection to reduce the number of non-governmental entities with access to the federal watch lists.

DATES: Send your comments by February 23, 2023. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA 11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on October 21, 2022, 87 FR 64083.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to:

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Secure Flight Program.

Type of Request: Revision of a currently approved collection.

OMB Control Number: 1652-0046.

Forms(s): N/A.

Affected Public: Aircraft operators, airport operators.

Abstract: TSA collects information from covered aircraft operators, including foreign air carriers, in order to prescreen passengers under the Secure Flight Program. The information collected under the Secure Flight Program is used for watch list-matching, for matching against lists of known travelers, and to assess passenger risk (e.g., to identify passengers who present lower risk and may be eligible for expedited screening). The collection covers:

(1) SFPD for passengers of covered domestic and international flights within, to, from, or over the continental United States, as well as flights between two foreign locations when operated by a covered U.S. aircraft operator.

(2) SFPD for passengers of charter operators and lessors of aircraft with a maximum takeoff weight of over 12,500 pounds (Twelve-Five operators).

(3) Certain identifying information for non-traveling individuals that airport operators or airport operator points of contact seek to authorize to enter a sterile area at a U.S. airport (e.g., to patronize a restaurant, to escort a minor or a passenger with disabilities, or for another approved purpose).

(4) Registration information critical to deployment of Secure Flight, such as contact information, data format, or the mechanism the covered aircraft operators use to transmit SFPD and other data.

(5) Lists of low-risk individuals who are eligible for expedited screening provided by Federal and non-federal entities. Through TSA PreCheck®, TSA implemented expedited screening of known low-risk travelers. Some federal and non-federal entities maintain lists of eligible individuals pursuant to agreements with DHS and TSA, and provide TSA with a list of eligible low-risk individuals to be used as part of Secure Flight processes. Secure Flight identifies individuals who should receive expedited screening and transmits the appropriate boarding pass printing result to the aircraft operators.

The collection is being revised due to a change in the population burden. Specifically, TSA has begun an initiative to decrease the number of non-governmental entities with access to the federal watch lists, such as Twelve-Five and Private Charter operators. TSA previously permitted these entities to use the lists to support prescreening of aviation passengers and non-traveling individuals seeking access to the sterile area of an airport, and to vet certain employees. Secure Flight is assuming this prescreening function, resulting in an increase in the number of respondent Twelve-Five and Private Charter operators, who had previously used the watch lists and who will now be authorized to participate in the Secure Flight program.

Number of Respondents: 901.

Estimated Annual Burden Hours: An estimated 44,840 hours annually.

Dated: January 19, 2023.
Christina A. Walsh,
TSA Paperwork Reduction Act Officer, Information Technology.

[FR Doc. 2023-01335 Filed 1-23-23; 8:45 am]

BILLING CODE 9110-05-P